DEPARTMENT OF HOMELAND SECURITY

Coast Guard

[Docket No. USCG-2011-0882]

International Maritime Organization Guidelines for Exhaust Gas Cleaning Systems for Marine Engines To Comply with Annex VI to MARPOL 73/78

AGENCY: Coast Guard, DHS.

ACTION: Notice of meeting.

SUMMARY: The United States Coast Guard, in consultation with the United States Environmental Protection Agency, will conduct a public meeting on the International Maritime Organization guidelines for exhaust gas cleaning systems for marine engines. The purpose of this meeting in Washington, DC, is to collect information on how to evaluate exhaust gas cleaning systems to determine under Annex VI regulation 4 of the International Convention for the Prevention of Pollution by Ships, 1973 as modified by the Protocol of 1978 (MARPOL) if such a system should be considered an equivalent that would be at least as effective in reducing sulfur oxide emissions as the requirements of MARPOL Annex VI regulation 14.

DATES: This public meeting will be held for 2 days beginning at 9 a.m. Eastern Time, on Wednesday, October 12, 2011, and ending at 3:30 p.m., Eastern Time on Thursday, October 13, 2011. The daily meeting schedule will be from 9 a.m. until 3:30 p.m. This meeting is open to the public. Comments and related material for our online docket must either be submitted via http://www.regulations.gov on or before October 27, 2011, or reach the Docket Management Facility by that date.

ADDRESSES: The public meeting will be held in Room 2501 of the United States Coast Guard Headquarters Transpoint building in Washington, DC. The Transpoint building is located at 2100 Second Street, Southwest, in Washington, DC 20953, approximately 1 mile from the Southwest-SEU Metro Station.

You may submit comments identified by docket number USCG-2011-0882 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: For additional information about this public meeting you may contact Mr. Wayne Lundy by telephone at 202-372-1379 or by e-mail at Wayne.M.Lundy@uscg.mil. If you have questions on viewing or submitting material in the docket, call Renee V. Wright, Program Manager, Docket Operations, telephone 202-366-9826.

SUPPLEMENTARY INFORMATION: The purpose of this meeting is to discuss guidelines and accompanying washwater discharge criteria developed by the International Maritime Organization (IMO) for exhaust gas cleaning systems for marine engines to remove sulfur oxide emissions. Annex VI regulation 4 of the International Convention for the Prevention of Pollution by Ships, 1973 as modified by the Protocol of 1978 (MARPOL), permits the use of equivalents that would be at least as effective in reducing emissions as required by MARPOL Annex VI regulations. MARPOL Annex VI regulation 14 sets requirements for sulfur oxide emissions. A copy of IMO Marine Environment Protection Committee Resolution MEPC.176(58), which contains the text of MARPOL Annex VI including regulations 4 and 14 is available in the docket for this notice. A copy of MEPC Resolution MEPC.184(59) which contains the 2009 Guidelines for Exhaust Gas Cleaning Systems is also available in the docket for this notice.

On July 21, 2008, the Maritime Pollution Prevention Act of 2008, Public Law 110-280, was enacted. This legislation amended the Act to Prevent Pollution from Ships (APPS), 33 U.S.C. 1901-1915. APPS, which defines “MARPOL Protocol” to include Annex VI, makes it unlawful to act in violation MARPOL Annex VI. See 33 U.S.C. 1901 and 1907. Working with other agencies, under 33 U.S.C. 1903, the Coast Guard is charged with administering and enforcing the MARPOL Protocol. A copy of 33 U.S.C. chapter 33, containing sections 1901-1915, is available in the docket.

Agenda of Meeting

The public meeting will cover:

(1) Potential approval process;

(2) Development of explicit test procedures;

(3) Inspection & verification of compliance;

(4) Consistency of the sludge from washwater;

(5) Proper disposal of sludge;

(6) Adequate reception facilities;

(7) Safety concerns;

(8) Training needs; and

(9) Recordkeeping.

The U.S. Coast Guard is specifically seeking information about testing procedures, preliminary results, processes for establishing certified laboratories, and other items relevant to emission standards regulation 14 and exhaust gas cleaning systems for marine engines.

Procedural

This meeting is open to the public. Please note that the public meeting has a limited number of seats and may close early if all business is finished. There will be audiovisual arrangements available for those interested in making presentations. Also, teleconferencing will be available. Those interested in making presentations or teleconferencing should contact Mr. Wayne Lundy by telephone at 202-372-1379 or by e-mail at Wayne.M.Lundy@uscg.mil.

The IMO guidelines are contained in document MEPC.184(59). A copy of the IMO guidelines is available in the docket. A limited number of paper copies will be available at this meeting. Summaries of comments made, materials presented, and lists of attendees will be available on the docket at the conclusion of the meeting. To view comments and materials in the docket, go to http://www.regulations.gov, type the docket number “USCG-2011-0882” in the Keyword box, and press Enter. If you submit a comment, please include the docket number for this rulemaking (USCG-2011-0882), indicate the specific section of this document to which each comment applies, and provide a reason for each suggestion or recommendation.

You may submit comments and material to our online docket via http://www.regulations.gov, by fax, mail, or hand delivery, but please use only one of these means. We recommend that you include your name and a mailing address, an e-mail address, or a phone number in the body of your document so that we can contact you if we have questions regarding your submission.

To submit your comment online, go to http://www.regulations.gov, type the docket number “USCG-2011-0882” in the Keyword box, press Enter, go to the row with the notice of the meeting (or another submission you wish to comment on), and click on the “Submit a Comment” icon in the “Actions” column. If you submit your comments by mail or hand delivery, submit them in an unbound format, no larger than 8½; by 11 inches, suitable for copying and electronic filing. If you submit comments by mail and would like to know that they reached the Facility, please enclose a stamped, self-addressed postcard or envelope.

All comments received will be posted without change to http://www.regulations.gov and will include any personal information you have provided. Anyone can search the electronic form of comments received into any of our dockets by the name of the individual submitting the comment (or signing the comment, if submitted on behalf of an association, business, labor union, etc.). You may review a Privacy Act notice regarding our public dockets in the January 17, 2008, issue of the Federal Register (73 FR 3316).

Information on Services for Individuals with Disabilities

For information on facilities or services for individuals with disabilities or to request special assistance at the meeting, contact Mr. Wayne Lundy at 202-372-1379 or by e-mail at Wayne.M.Lundy@uscg.mil as soon as possible.

Public Meeting Location and Dates

As stated in the DATES and ADDRESSES sections, the Coast Guard will hold a public meeting October 12 and 13, 2011, at: United States Coast Guard Headquarters, Transpoint Building, Room 2501, 2100 Second Street, Southwest, Washington, DC 20953. Each meeting will be conducted from 9 a.m. until 3:30 p.m., with a planned lunch break for approximately 45 minutes at a convenient point each day. The meeting may close early if all business is finished.

Attendees will be required to provide a government-issued photo identification (for example, a driver's license) in order to gain admittance to the Coast Guard Headquarters building. The building is located approximately 1 mile from the Southwest-SEU Metro Station.

Dated: September 14, 2011.
J.G. Lantz,
U.S. Coast Guard, Director of Commercial Regulations and Standards.

[FR Doc. 2011-24138 Filed 9-19-11; 8:45 am]

BILLING CODE 9110-04-P